FEDERAL MARITIME COMMISSION

[Docket No. 01-10]

Green Master Int'l Freight Services Ltd.—Possible Violations of Sections 10(a)(1) and 10(b)(1) of the Shipping Act of 1984; Notice of Investigation and Hearing

Notice is given that on July 30, 2001, the Federal Maritime Commission served an Order of Investigation on Green Master Int'l Freight Services Ltd. (“Green Master”). It appears that on at least 49 shipments between May 18, 1998 and May 3, 1999, Green Master knowingly and willfully obtained or attempted to obtain ocean transportation at less than the applicable rates by means of accessing service contracts to which Green Master was not a signatory or affiliate. This proceeding therefore seeks to determine (1) whether Green Master violated section 10(a)(1) of the Shipping Act of 1984 (“Shipping Act”) by knowingly and willfully, directly or indirectly, by means of false billing, false classification, false weighing, false report of weight, false measurement, or by any other unjust or unfair device or means, obtaining or attempting to obtain ocean transportation for property at less than the rates or charges that would otherwise have been applicable; (2) whether Green Master violated section 10(b)(1) of the Shipping Act by charging, demanding, collecting or receiving less or different compensation for the transportation of property than the rates and charges shown in its NVOCC tariff; (3) whether, in the event violations of sections 10(a)(1) or 10(b)(1) of the Shipping Act are found, civil penalties should be assessed against Green Master and, if so, the amount of penalties to be assessed; (4) whether, in the event violations of section 10(b)(1) of the Shipping Act are found, the tariff of Green Master should be suspended; and (5) whether, in the event violations are found, an appropriate cease and desist order should be issued. The full text of the Order may be viewed on the Commission's home page at http://www.fmc.gov/, or at the Office of the Secretary, Room 1046, 800 N. Capitol Street, NW., Washington, DC. Any person may file a petition for leave to intervene in accordance with 46 CFR 502.72.

Bryant L. VanBrakle,
Secretary.

[FR Doc. 01-20288 Filed 8-13-01; 8:45 am]

BILLING CODE 6730-01-P